DEPARTMENT OF THE TREASURY

Internal Revenue Service

Open Meeting of the Taxpayer Advocacy Panel Taxpayer Assistance Center Committee

AGENCY: Internal Revenue Service (IRS), Treasury.

ACTION: Notice of meeting.

SUMMARY: An open meeting of the Taxpayer Advocacy Panel Taxpayer Assistance Center Committee will be conducted. The Taxpayer Advocacy Panel is soliciting public comments, ideas, and suggestions on improving customer service at the Internal Revenue Service.

DATES: The meeting will be held Thursday, June 18, 2009, Friday, June 19, 2009 and Saturday, June 20, 2009.

FOR FURTHER INFORMATION CONTACT: Ellen Smiley at 1-888-912-1227 or 414-231-2360.

SUPPLEMENTARY INFORMATION: Notice is hereby given pursuant to section 10(a)(2) of the Federal Advisory Committee Act, 5 U.S.C. App. (1988) that an open meeting of the Taxpayer Advocacy Panel Taxpayer Assistance Center Committee will be held Thursday June 18, 2009, from 1 p.m. to 5 p.m., Friday, June 19, 2009 from 8 a.m. to 5 p.m., and Saturday, June 20, 2009 from 8 a.m. to 12 p.m. Mountain Time in Denver, CO. The public is invited to make oral comments or submit written statements for consideration. Notification of intent to participate must be made with Ellen Smiley. For more information please contact Ms. Smiley at 1-888-912-1227 or 414-231-2360, or write TAP Office Stop 1006MIL, 211 West Wisconsin Avenue, Milwaukee, WI 53203-2221, or post comments to the Web site: http://www.improveirs.org.

The agenda will include various IRS issues.

Dated: April 22, 2009.
Shawn F. Collins,
Acting Director, Taxpayer Advocacy Panel.

[FR Doc. E9-9890 Filed 4-29-09; 8:45 am]

BILLING CODE 4830-01-P